DEPARTMENT OF HOMELAND SECURITY

[Docket No. DHS-2015-0044]

Homeland Security Advisory Council—New Tasking

AGENCY: The Office of Intergovernmental Affairs, DHS.

ACTION: Notice of task assignment for the Homeland Security Advisory Council.

SUMMARY: The Secretary of the Department of Homeland Security (DHS), Jeh Johnson, tasked his Homeland Security Advisory Council to establish a subcommittee entitled Cybersecurity Subcommittee on August 6, 2015. The Cybersecurity Subcommittee will provide findings and recommendations to the Homeland Security Advisory Council on best practices sourced from industry, state and local government, academic experts, and community leaders. This notice informs the public of the establishment of the Cybersecurity Subcommittee and is not a notice for solicitation.

FOR FURTHER INFORMATION CONTACT: Sarah E. Morgenthau, Executive Director of the Homeland Security Advisory Council, Office of Intergovernmental Affairs, U.S. Department of Homeland Security at (202) 447-3135 or hsac@hq.dhs.gov.

SUPPLEMENTARY INFORMATION: The Homeland Security Advisory Council provides organizationally independent, strategic, timely, specific, and actionable advice and recommendations for the consideration of the Secretary of the Department of Homeland Security on matters related to homeland security. The Council is comprised of leaders of local law enforcement, first responders, state and local government, the private sector, and academia.

Tasking: The Cybersecurity Subcommittee will develop actionable findings and recommendations for the Department of Homeland Security. The subcommittee will address the following: (1) Identify the readiness of the Department's lifeline sectors to meet the emerging cyber threat and provide recommendations for building cross-sector capabilities to rapidly restore critical functions and services following a significant cyber event; and (2) How can the Department provide a more unified approach to support State, Local, Tribal and Territorial cybersecurity?

Schedule: The Cybersecurity Subcommittee findings and recommendations will be submitted to the Homeland Security Advisory Council for their deliberation and vote during a public meeting. Once the report is voted on by the Homeland Security Advisory Council, it will be sent to the Secretary for his review and acceptance.

Dated: August 7, 2015.
Sarah E. Morgenthau,
Executive Director.

[FR Doc. 2015-20034 Filed 8-13-15; 8:45 am]

BILLING CODE 9110-9M-P